DEPARTMENT OF ENERGY

Federal Energy Regulatory Commission

Notice of New Docket Prefix PF

September 21, 2001.

Notice is hereby given that a new docket prefix PF has been established for Commission staff involvement in pre-filing National Environmental Policy Act (NEPA) activities for proposed gas pipelines.

The Commission will use this docket prefix when opening a docket after approving a written request from the applicant requesting staff involvement in the pre-filing NEPA process. Commission staff activities under this docket could include: developing information about the proposal; facilitating issue identification, study needs, and issue resolution; attending meetings and visiting sites; preparing preliminary EAs or DEISs; and reviewing draft applications.

The prefix will be PFFY-NNN-000, where “FY” stands for the fiscal year in which the request was made, and “NNN” is a sequential number.

David P. Boergers,
Secretary.

[FR Doc. 01-24144 Filed 9-26-01; 8:45 am]

BILLING CODE 6717-01-P